DEPARTMENT OF DEFENSE

Department of the Navy

Cancellation of the Notice of Intent To Prepare an Environmental Impact Statement for TRIDENT Support Facilities Explosives Handling Wharf, Naval Base Kitsap-Bangor, Silverdale, Kitsap County, WA; Correction

AGENCY: Department of the Navy, DoD.

ACTION: Notice; correction.

SUMMARY: The Department of the Navy published a document in the Federal Register of June 30, 2008, announcing cancellation of the its notice of intent to prepare an Environmental Impact Statement for TRIDENT Support Facilities Explosives Handling Wharf, Naval Base Kitsap-Bangor, Silverdale, Kitsap County, WA. The contact e-mail address for further information has changed.

FOR FURTHER INFORMATION CONTACT: Mr. Jack Spiller, Public Affairs Officer, Department of the Navy, Strategic Systems Programs, 2521 South Clark Street, Suite 1000, Arlington, VA 22202-3930, telephone: 703-601-9009, e-mail at: ssppao@ssp.navy.mil.

Correction

In the Federal Register of June 30, 2008, in FR Doc. E8-14810, make the following changes:

1. In the second column, on page 36847, correct the FOR FURTHER INFORMATION CONTACT caption to read:

“Mr. Jack Spiller, Public Affairs Officer, Department of the Navy, Strategic Systems Programs, 2521 South Clark Street, Suite 1000, Arlington, VA 22202-3930, telephone: 703-601-9009, e-mail at: ssppao@ssp.navy.mil.”

Dated: June 30, 2008.
T.M. Cruz,
Alternate Federal Register Liaison Officer, Office of the Judge Advocate General, U.S. Navy.

[FR Doc. E8-15304 Filed 7-3-08; 8:45 am]

BILLING CODE 3810-FF-P